DEPARTMENT OF JUSTICE

[OMB Number 1123-0NEW]

Agency Information Collection Activities; Proposed eCollection eComments Requested; New Collection; Authorization for Release of Medical Information

AGENCY: Office of the Pardon Attorney, Department of Justice.

ACTION: 60-Day notice.

SUMMARY: The Office of the Pardon Attorney, Department of Justice (DOJ), will be submitting the following information collection request to the Office of Management and Budget (OMB) for review and approval in accordance with the Paperwork Reduction Act of 1995.

DATES: Comments are encouraged and will be accepted for 60 days until November 27, 2023.

FOR FURTHER INFORMATION CONTACT: If you have additional comments especially on the estimated public burden or associated response time, suggestions, or need a copy of the proposed information collection instrument with instructions or additional information, please contact Kira Gillespie, Deputy Pardon Attorney, Office of the Pardon Attorney, 950 Pennsylvania Avenue NW, Main Justice—RFK Building, Washington, DC 20530; kira.gillespie@usdoj.gov; (202) 616-6073.

SUPPLEMENTARY INFORMATION: Written comments and suggestions from the public and affected agencies concerning the proposed collection of information are encouraged. Your comments should address one or more of the following four points:

—Evaluate whether the proposed collection of information is necessary for the proper performance of the functions of the Office of the Pardon Attorney, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Applicants seeking pardon after completion of sentence by the President will be asked to respond to this collection. The principal purpose for collecting this information is to enable the Office of the Pardon Attorney to process applicants' requests for pardon after completion of sentence. The information is necessary to obtain records relating to applicants' medical records to verify information provided to the Office in the course of the pardon background investigation and to ensure that the Federal Bureau of Investigation or its designees can properly obtain and investigate such information.

Overview of This Information Collection

1. Type of Information Collection: New collection.

2. The Title of the Form/Collection: Authorization for Release of Medical Information.

3. The agency form number, if any, and the applicable component of the Department sponsoring the collection: There is no agency form number for this collection. The applicable component within the Department of Justice is the Office of the Pardon Attorney.

4. Affected public who will be asked or required to respond, as well as the obligation to respond: Affected Public: Individuals or households. The obligation to respond is voluntary.

5. An estimate of the total number of respondents and the amount of time estimated for an average respondent to respond: Available information suggests that potentially 1,000 applicants will complete authorizations annually. We estimate an average of five minutes for each applicant to respond to the collection.

6. An estimate of the total annual burden (in hours) associated with the collection: Considering the above projected figures, we estimate 83.3 hours of annual burden hours.

7. An estimate of the total annual cost burden associated with the collection, if applicable: $0.

Total Burden Hours
Activity | Number of respondents | Frequency | Total annual responses | Time per response | Total annual burden (hours)
Authorization for Release of Medical Information | 1,000 | 1/annually | 1,000 | 5 min | 83.3
Unduplicated Totals | 1,000 |  | 1,000 |  | 83.3

If additional information is required contact: Darwin Arceo, Department Clearance Officer, United States Department of Justice, Justice Management Division, Policy and Planning Staff, Two Constitution Square, 145 N Street NE, 4W-218, Washington, DC.

Dated: September 19, 2023.
Darwin Arceo,
Department Clearance Officer for PRA, U.S. Department of Justice.

[FR Doc. 2023-21126 Filed 9-27-23; 8:45 am]

BILLING CODE 4410-29-P